ENVIRONMENTAL PROTECTION AGENCY

[FRL OP-OFA-097]

Environmental Impact Statements; Notice of Availability

Responsible Agency: Office of Federal Activities, General Information 202-564-5632 or https://www.epa.gov/nepa.

Weekly receipt of Environmental Impact Statements (EIS)

Filed November 13, 2023 10 a.m. EST Through November 17, 2023 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20230162, Final, USAF, FL, KC-46A Main Operating Base No. 6 Beddown, Review Period Ends: 12/26/2023, Contact: Austin Naranjo 813-263-9331.

EIS No. 20230163, Draft Supplement, USACE, HI, Draft General Reevaluation Report with Integrated Supplemental Environmental Impact Statement: Ala Wai Canal Flood Risk Management Study, Oahu, Hawaii, Comment Period Ends: 01/08/2024, Contact: Eric Merriam 412-395-7185.

Dated: November 17, 2023.
Julie Smith,
Acting Director, NEPA Compliance Division, Office of Federal Activities.

[FR Doc. 2023-25936 Filed 11-22-23; 8:45 am]

BILLING CODE 6560-50-P